DEPARTMENT OF HEALTH AND HUMAN SERVICES

Office of the Secretary

[Document Identifier: HHS-OS-18774-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting that ICR to OMB, OS seeks comments from the public regarding the burden estimate, below, or any other aspect of the ICR.

DATES: Comments on the ICR must be received on or before April 15, 2013.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-18774-60D for reference. Information Collection Request Title: Survey of Physician Time Use Patterns under the Medicare Fee Schedule.

Abstract: This information collection is a survey of physician providers in five specialties (internal medicine, radiology, cardiology, ophthalmology, and orthopedics) to gather information on the clinical time spent in providing selected services as well as related information on the physician's practice.

Need and Proposed Use of the Information: The Office of the Assistant Secretary for Planning and Evaluation is currently conducting a number of studies aimed at producing evidence that will help to improve the accuracy of the Medicare Physician Fee Schedule. Under the Medicare Physician Fee Schedule, payments are based in part on the relative amount of physician work associated with each service. For a number of reasons, payment differentials for Evaluation and Management services relative to procedures, rather than narrowing, have continued to widen over time. While the fee schedule's relative values are updated to reflect changes in medical practice, technology and physician productivity, some have questioned whether the current process adequately reflects these changes. The intended data collection effort would be used to gather information on the time data that is used as an input in the fee schedule. Analyses show that even though work is defined as both time and intensity, final work values are highly correlated with the time measure, with time explaining between 80 and 90 percent of the inter-service variance in work. However, several studies suggest potential flaws in estimates of time associated with pre-, post- and intra-service work, demonstrating that the time estimates used for many services exceed actual times when objectively measured through, for example, operating room logs. The survey data will be used to inform several gaps in knowledge critical to improving the accuracy of the fee schedule, including (i) the strength of the correlation between physician-reported clinical time and fee-schedule time values for surveyed services; (ii) how consistent the relationships are across services and across specialties; (iii) whether the relationships vary across physicians in different types of practice settings, and (iv) whether this approach to gathering time data is feasible and could be scaled up for a larger effort. Likely Respondents: Practicing physicians in 5 specialties.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
| Number of respondents | Number of responses per respondent | Average burden per response (in hours) | Total burden hours
Ineligible | 45 | 1 | .05 | 2.25
Eligible | 600 | 1 | .25 | 150
Total | 645 | 1 | .24 | 152.25

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Deputy, Information Collection Clearance Officer.

[FR Doc. 2013-03270 Filed 2-12-13; 8:45 am]

BILLING CODE 4150-45-P